EQUAL EMPLOYMENT OPPORTUNITY COMMISSION

Sunshine Act Meeting

Date And Time: Friday, September 17, 2004, 10 a.m. Eastern Time.

Place: Clarence M. Mitchell, Jr. Conference Room on the Ninth Floor of the EEOC Office Building, 1801 “L” Street, NW., Washington, DC 20507.

Status: The meeting will be open to the public.

Matters To Be Considered:

Open Session: 1. Announcement of Notation Votes, and

2. Obligation of Funds for EEOC National Contact Center.

Note: In accordance with the Sunshine Act, this meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. Contact Person For More Information: Stephen Llewellyn, Acting Executive Officer on (202) 663-4070.

Dated: September 10, 2004.
Stephen Llewellyn,
Acting Executive Officer, Executive Secretariat.

[FR Doc. 04-20792 Filed 9-10-04; 1:53 pm]

BILLING CODE 6750-06-M